ENVIRONMENTAL PROTECTION AGENCY

[FRL-9960-17-Region 6]

Draft NPDES General Permit for Discharges From the Oil and Gas Extraction Point Source Category to Coastal Waters in Texas (TXG330000)

AGENCY: Environmental Protection Agency (EPA).

ACTION: Proposal of NPDES general permit renewal.

SUMMARY: EPA Region 6 today proposes a National Pollutant Discharge Elimination System (NPDES) general permit regulating discharges from oil and gas wells in the Coastal Subcategory in Texas which discharge into coastal waters in Texas.

DATES: Comments must be received by June 9, 2017.

ADDRESSES: Comment: Submit your comments, identified by Docket ID No. EPA-R06-OW-2017-0160 to the Federal eRulemaking Portal: http://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

FOR FURTHER INFORMATION CONTACT: Ms. Evelyn Rosborough, Region 6, U.S. Environmental Protection Agency, 1445 Ross Avenue, Dallas, Texas 75202-2733. Telephone: (214) 665-7515.

A complete draft permit and a fact sheet more fully explaining the proposal may be obtained online from the Federal eRulemaking Portal accessing the Docket listed above or from Ms. Rosborough. In addition, the Agency's current administrative record on the proposal is available for examination at the Region's Dallas offices during normal working hours after providing Ms. Rosborough 24 hours advance notice.

SUPPLEMENTARY INFORMATION: The permit prohibits the discharge of drilling fluid, drill cuttings, produced sand and well treatment, completion and workover fluids. Discharges of dewatering effluents from reserve pits are also proposed to be prohibited. Produced water discharges are prohibited. The discharge of deck drainage, formation test fluids, sanitary waste, domestic waste and miscellaneous discharges is authorized. More stringent requirements are proposed to regulate discharges to water quality-impaired waterbodies. Pursuant to the section 316(b) of the Clean Water Act (CWA), monitoring requirements for cooling water intake structures for new facilities are also proposed in this permit. Proposed changes include clarification of miscellaneous discharges and electronic reporting requirements. Rationales for those changes are described in the fact sheet. To obtain discharge authorization, operators of such facilities must submit a new Notice of Intent (NOI). To determine whether your facility, company, business, organization, etc. is regulated by this action, you should carefully examine the applicability criteria in Part I, Section A.1 of this permit.

If you have questions regarding the applicability of this action to a particular entity, consult the person listed in the preceding FOR FURTHER INFORMATION CONTACT section.

Other Legal Requirements

State certification under section 401 of the CWA; consistency with the Texas Coastal Management Program; and compliance with National Environmental Policy Act, Endangered Species Act, Magnuson-Stevens Fishery Conservation and Management Act, Historic Preservation Act, Paperwork Reduction Act, and Regulatory Flexibility Act requirements are discussed in the fact sheet to the proposed permit.

Dated: March 2, 2017.
William K. Honker,
Director, Water Division, EPA Region 6.

[FR Doc. 2017-08255 Filed 4-24-17; 8:45 am]

BILLING CODE 6560-50-P